DEPARTMENT OF TRANSPORTATION

Federal Aviation Administration

Approval of Noise Compatibility Program Cleveland Hopkins Airport Cleveland, OH

AGENCY: Federal Aviation Administration, DOT.

ACTION: Notice.

SUMMARY: The Federal Aviation Administration (FAA) announces its findings on the noise compatibility program submitted by the city of Cleveland, Cleveland, Ohio, under the provisions of Title I of the Aviation Safety and Noise Abatement Act of 1979 (Public Law 96-193) and 14 CFR Part 150. These findings are made in recognition of the description of Federal and nonfederal responsibilities in Senate Report No. 96-52 (1980). On February 25, 2000, the FAA determined that the noise exposure maps submitted by the city of Cleveland under Part 150 were in compliance with applicable requirements. On August 23, 2000, the FAA approved the Cleveland Hopkins International Airport noise compatibility program.

A total of fourteen (14) measures were included in the city of Cleveland's Noise Compatibility Plan, which continue or expand the intent of the approved 1987 NCP. Of the fourteen (14) measures included, seven (7) are listed as “Noise Abatement Plan Measures”, four (4) are listed as “Land Use Management Measures”. and three (3) are listed as “Program Management Measures.” All of the recommendations of the program were approved.

EFFECTIVE DATE: The effective date of the FAA's approval of the Cleveland Hopkins International Airport noise compatibility program is August 23, 2000.

FOR FURTHER INFORMATION CONTACT: Ernest Gubry, Federal Aviation Administration, Detroit Airports District Office, Willow Run Airport, East, 8820 Beck Road, Belleville, Michigan 48111, 734-487-7280. Documents reflecting this FAA action may be reviewed at this same location.

SUPPLEMENTARY INFORMATION: This notice announces that the FAA has given its overall approval to the noise compatibility program for Cleveland Hopkins International Airport, effective August 23, 2000.

Under section 104(a) of the Aviation Safety and Noise Abatement Act of 1979 (hereinafter referred to as “the Act”), an airport operator who has previously submitted a noise exposure map may submit to the FAA a noise compatibility program which sets forth the measures taken or proposed by the airport operator for the reduction of existing noncompatible land uses and prevention of additional noncompatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act, and is limited to the following determinations:

a. The noise compatibility program was developed in accordance with the provisions and procedures of FAR Part 150;

b. Program measures are reasonably consistent with achieving the goals or reducing existing noncompatible land uses around the airport and preventing the introduction of additional noncompatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to the FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Detroit Airports District Office in Belleville, Michigan.

The City of Cleveland submitted to the FAA on February 23, 2000, noise exposure maps, descriptions, and other documentation produced during the noise compatibility planning study conducted from January, 1998 through May, 1999. The Cleveland Hopkins International Airport noise exposure maps were determined by the FAA to be in compliance with applicable requirements on February 25, 2000. Notice of this determination was published in the Federal Register on March 7, 2000.

The Cleveland Hopkins International Airport study contains a proposed noise compatibility program comprised of actions designed for phased implementation by airport management and adjacent jurisdictions from the date of study completion to the year 2006. It was requested that the FAA evaluate and approve this material as a noise compatibility program as described in section 104(b) of the Act. The FAA began its review of the program on February 25, 2000, and was required by a provision of the Act to approve and disapprove the program within 180 days (other than the use of new flight procedures for noise control). Failure to approve or disapprove such program within the 180-day period would have been deemed to be an approval of such program.

The submitted program contained 14 proposed actions for noise mitigation on and off the airport. The FAA completed its review and determined that the procedural and substantive requirements of the Act and FAR Part 150 have been satisfied. The overall program, therefore, was approved by the Assistant Administrator for Airports effective August 23, 2000.

Outright approval was granted for all of the specific program elements. Seven (7) of the fourteen (14) measures submitted are listed as “Noise Abatement Measures”. Of the seven (7) measures, one (1) deals with ground run-ups, five (5) deal with departure flight tracks, and one (1) deals with approach flight tracks. Four (4) of the fourteen (14) measures submitted are listed as “Land Use Measures”. These four (4) measures include encouraging local jurisdictions to adopt land use development controls and construction standards and real estate disclosure policies regarding airport noise, sound insulating residences within the higher levels of the noise exposure, 65+ DNL, and Sound insulating residences within or contiguous to the 60 DNL band of the NCP noise contours. Three (3) of the fourteen (14) measures submitted are listed as “Program Management Measures”. These three (3) measures include providing system enhancements to the aircraft/airport noise monitoring system, implementing a “Fly Quiet” communication program, and continue periodic updates of the NCP and reviews of the NEMs.

These fourteen (14) determinations are set forth in detail in a Record of Approval endorsed by the Assistant Administrator for Airports on August 23, 2000. The Record of Approval, as well as other evaluation materials and documents which comprised the submittal to the FAA, are available for review at the following locations:

Federal Aviation Administration, 800 Independence Avenue, S.W., Room 617, Washington, D.C. 20591;

Federal Aviation Administration, Detroit Airports District Office, Willow Run Airport, East, 8820 Beck Road, Belleville, Michigan 48111;

City of Cleveland, Department of Port Control, 5300 Riverside Drive, Cleveland, Ohio 44315-3193.

Questions may be directed to the individual named above under the hearing, FOR FURTHER INFORMATION CONTACT.

Issued in Belleville, Michigan, August 30, 2000.
James M. Opatrny,
Acting Manager, Detroit Airports District Office, Great Lakes Region.

[FR Doc. 00-25264 Filed 9-29-00; 8:45 am]

BILLING CODE 4910-13-M